DEPARTMENT OF JUSTICE

Notice of Lodging of Consent Judgment Pursuant to Resource Recovery and Conservation Act

Notice is hereby given that on December 23, 2008, a proposed Consent Judgment in United States v. Citygas Gasoline Corporation, et al., Civil Action No. CV-03-6374, was lodged with the United States District Court for the Eastern District of New York.

The proposed Consent Judgment will resolve the United States' claims under Section 9006 of the Resource Recovery and Conservation Act, as amended, 42 U.S.C. 6991e, on behalf of the U.S. Environmental Protection Agency against defendants Sidney Esikoff Family Trust (“Seft”), 141-50 Union Turnpike LLC, 83-10 Astoria Boulevard LLC, and 2800 Bruckner Boulevard LLC (collectively “SEFT Defendants”). The United States alleges that the SEFT Defendants violated the regulations governing underground storage tanks (“USTs”), set forth at 40 CFR Part 280, at the following facilities, which were automobile fueling stations with USTs that defendants have owned and/or operated: (1) 83-10 Astoria Boulevard, Jackson Heights, New York; (2) 141-50 Union Turnpike, Flushing, New York; and (3) 2800 Bruckner Boulevard, Bronx, New York. The Consent Judgment requires the SEFT Defendants to pay a civil penalty of $325,000. The Consent Judgment also provides for injunctive relief to be implemented over the next five years at 141-50 Union Turnpike, Flushing, New York, consisting of maintenance of ongoing compliance with the UST regulations, and submission of reports demonstrating such compliance.

The Department of Justice will receive, for a period of thirty (30) days from the date of this publication, comments relating to the Consent Judgment. Comments should be addressed to the Assistant Attorney General, Environment and Natural Resources Division, and either e-mailed to pubcomment-ees.enrd@usdoj.gov or mailed to P.O. Box 7611, U.S. Department of Justice, Washington, DC 20044-7611, and should refer to United States v. Citygas Gasoline Corporation, et al., Civil Action No. CV-03-6374, D.J. Ref. No. 90-7-1-07464.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html . A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the U.S. Treasury or, if by e-mail or fax, forward a check in that amount to the Consent Decree Library at the stated address.

Henry Friedman,
Assistant Section Chief, Environmental Enforcement Section, Environment and Natural Resources Division.

[FR Doc. E9-67 Filed 1-7-09; 8:45 am]

BILLING CODE 4410-15-P